DEPARTMENT OF HEALTH AND HUMAN SERVICES

National Institutes of Health

National Cancer Institute; Amended Notice of Meeting

Notice is hereby given of a change in the meeting of the Frederick National Laboratory Advisory Council, October 23, 2024, 9:00 a.m. to October 23, 2024, 5:00 p.m., National Institutes of Health, 9606 Medical Center Drive, Rockville, MD, 20850 (Virtual Meeting), which was published in the Federal Register on October 1, 2024, FR Doc. 2024-22438, 89 FR 79937.

This notice is being amended to change the meeting start and end times. The meeting will now be held from 12:00 p.m. to 4:30 p.m. instead of from 9:00 a.m. to 5:00 p.m. The meeting is open to the public.

Dated: October 16, 2024.
David W. Freeman,
Supervisory Program Analyst, Office of Federal Advisory Committee Policy.

[FR Doc. 2024-24325 Filed 10-21-24; 8:45 am]

BILLING CODE 4140-01-P